DEPARTMENT OF COMMERCE

National Institute of Standards and Technology

Computer System Security and Privacy Advisory Board; Notice of Meeting

AGENCY: National Institute of Standards and Technology.

ACTION: Notice of meeting.

SUMMARY: Pursuant to the Federal Advisory Committee Act, 5 U.S.C. App., notice is hereby given that the Computer System Security and Privacy Advisory Board (CSSPAB) will meet Wednesday, March 29, 2000, and Thursday, March 30, 2000, from 9 a.m. to 5 p.m. The Advisory Board was established by the Computer Security Act of 1987 (P.L. 100-235) to advise the Secretary of Commerce and the Director of NIST on security and privacy issues pertaining to federal computer systems. All sessions will be open to the public. Details regarding the Board's activities are available at http://csrc.nist.gov/csspab/.

DATES: The meeting will be held on March 29-30, 2000, from 9 a.m. to 5 p.m.

ADDRESSES: The meeting will take place at the National Institute of Standards and Technology, Gaithersburg, MD, Administration Building, Lecture Room D.

Agenda

—Welcome and Overview

—Issues Update and Briefings

—Legislative Updates

—Systems Security Engineering-Capability Maturity Model Briefing

—Office of Management and Budget/Office of Information and Regulatory Affairs Briefing

—Update on GSA's Access Certificates Electronic (ACES)

—Best Practices Briefing

—NIST Computer Security Updates

—Planning for Security Program Metrics Workshop

—Pending Business/Discussion

—Public Participation

—Agenda Development for June 2000 Meeting

—Wrap-U

Note that agenda items may change without notice because of possible unexpected schedule conflicts of presenters.

Public Participation

The Board agenda will include a period of time, not to exceed thirty minutes, for oral comments and questions from the public. Each speaker will be limited to five minutes. Members of the public who are interested in speaking are asked to contact the Board Secretariat at the telephone number indicated below. In addition, written statements are invited and may be submitted to the Board. It would be appreciated if 35 copies of written material were available for distribution to the Board and attendees at the meeting. Approximately 15 seats will be available for the public and media.

FOR FURTHER INFORMATION CONTACT: Mr. Edward Roback, Board Secretariat, Information Technology Laboratory, National Institute of Standards and Technology, 100 Bureau Drive, Stop 8930, Gaithersburg, MD 20899-8930, telephone: (301) 975-3696.

Dated: March 23, 2000.
Raymond G. Kammer,
Director, NIST.

[FR Doc. 00-7593 Filed 3-24-00; 8:45 am]

BILLING CODE 3510-CN-M